DEPARTMENT OF HEALTH AND HUMAN SERVICES

National Institutes of Health

Submission for OMB Review; 30-day Comment Request; Web-Based Media Literacy Parent Training for Substance Use Prevention in Rural Locations

SUMMARY: Under the provisions of Section 3507(a)(1)(D) of the Paperwork Reduction Act of 1995, the National Institute on Drug Abuse, National Institutes of Health (NIH) has submitted to the Office of Management and Budget (OMB) a request for review and approval of the information collection listed below. This proposed information collection was previously published in the Federal Register on March 27, 2013, pages 18612-18613 and allowed 60-days for public comment. No public comments were received. The purpose of this notice is to allow an additional 30 days for public comment. The National Institute on Drug Abuse (NIDA), National Institutes of Health, may not conduct or sponsor, and the respondent is not required to respond to, an information collection that has been extended, revised, or implemented on or after October 1, 1995, unless it displays a currently valid OMB control number.

Direct Comments To OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comments Due Date: Comments regarding this information collection are best assured of having their full effect if received within 30-days of the date of this publication.

FOR FURTHER INFORMATION CONTACT: To obtain a copy of the data collection plans and instruments, submit comments in writing, or request more information on the proposed project contact: Dr. Augie Diana, Health Scientist Administrator, Prevention Research Branch, Division of Epidemiology, Services, and Prevention Research, NIDA, NIH, 6001 Executive Boulevard, Room 5163, Bethesda, MD 20892, or call non-toll-free number (301) 443-1942 or Email your request, including your address to: dianaa@nida.nih.gov. Formal requests for additional plans and instruments must be requested in writing.

Proposed Collection: Web-based Media Literacy Parent Training for Substance Use Prevention in Rural Locations, 0925-New, National Institute on Drug Abuse (NIDA), National Institutes of Health (NIH).

Need and Use of Information Collection: This study will develop a web-based media literacy substance use prevention intervention for use with parents and their elementary school children (approximately ages 7-12), and will evaluate the program in a randomized controlled trial to establish program efficacy in six rural communities in North Carolina and Texas. The primary objectives of the study are to assess the efficacy of a media literacy education program that is specifically designed to overcome barriers to prevention efforts in rural communities, and to provide the scientific basis for establishing the program, Media Detective Family, as an evidence-based substance use prevention curriculum. The findings will provide valuable information concerning: (1) The appropriateness of using technology for substance use prevention programming (i.e., internet, Smartphone, or tablet-based applications) to reach rural families with elementary school-aged children; (2) improvements in parents' and children's critical thinking skills associated with intervention exposure; (3) improvements in parent-child communication about substances and the media associated with intervention exposure; and (4) reductions in children's behavioral intentions to use substances associated with intervention exposure.

OMB approval is requested for two years. There are no costs to respondents other than their time. There are no capital, operating, and/or maintenance costs. The total estimated annualized burden hours are 1067.

Estimated Annualized Burden Hours
Type of respondents | Number of respondents | Frequency of response | Average time per response | Annual hour burden
Adults:
Permission & Consent | 200 | 1 | 10/60 | 33.33
Pretest |  | 1 | 50/60 | 166.67
Posttest |  | 1 | 45/60 | 150.00
Follow-up |  | 1 | 45/60 | 150.00
Usage Log |  | 2 | 10/60 | 67.00
Children:
Assent | 200 | 1 | 10/60 | 33.33
Pretest |  | 1 | 50/60 | 166.67
Posttest |  | 1 | 45/60 | 150.00
Follow-up |  | 1 | 45/60 | 150.00

Dated: June 5, 2013.
Glenda J. Conroy,
Executive Officer, (OM Director), National Institute on Drug Abuse, NIH.

[FR Doc. 2013-13795 Filed 6-10-13; 8:45 am]

BILLING CODE 4140-01-P